DEPARTMENT OF COMMERCE

Bureau of Economic Analysis

Proposed Information Collection; Comment Request; Institutional Remittances to Foreign Countries

AGENCY: Bureau of Economic Analysis, Commerce.

ACTION: Notice.

SUMMARY: The Department of Commerce, as part of its continuing effort to reduce paperwork and respondent burden, invites the general public and other Federal agencies to comment on proposed and/or continuing information collections, as required by the Paperwork Reduction Act of 1995.

DATES: Written comments must be submitted on or before 5 p.m. August 26, 2013.

ADDRESSES: Direct all written comments to Jennifer Jessup, Departmental Paperwork Clearance Officer, Department of Commerce, Room 6616, 14th and Constitution Avenue NW., Washington, DC 20230, or via email at jjessup@doc.gov.

FOR FURTHER INFORMATION CONTACT: Direct requests for additional information or copies of the survey and instructions to Mark Xu, Chief, Special Surveys Branch, Balance of Payments Division, (BE-50), Bureau of Economic Analysis, U.S. Department of Commerce, Washington, DC 20230; phone:(202) 606-9826; fax: (202) 606-5318; or via email at mark.xu@bea.gov.

SUPPLEMENTARY INFORMATION:

I. Abstract

Form BE-40, Institutional Remittances to Foreign Countries, obtains data from U.S. nonprofit organizations whose remittances were $100,000 or more for the previous year or are expected to meet or exceed that amount during the current year. The data is collected quarterly from organizations remitting $1 million or more each year and annually for organizations remitting at least $100,000 but less than $1 million each year. Potential respondents are U.S. religious, charitable, educational, scientific and similar nonprofit organizations that voluntarily agree to provide data on their transfers to foreign residents and organizations and on their expenditures in foreign countries.

The data collected are cut-off sample data. The Bureau of Economic Analysis (BEA) estimates data for non-respondents.

The data are needed by BEA for compiling the U.S. international transactions accounts (ITAs), which BEA publishes quarterly. The ITAs are used extensively by both government and private organizations for national and international economic policy formulation and for analytical purposes. The information collected in this survey is used to develop the “private remittances” portion of the ITAs. Without this information, an integral component of the ITAs would be omitted. No other government agency collects comprehensive quarterly data on institutional remittances of funds to foreign countries. Quarterly reports are due 30 days after the close of each calendar or fiscal quarter and annual reports are due 90 days after the close of the calendar or fiscal year.

The survey form is reformatted to better facilitate survey responses. No changes are proposed for the data collected or for exemption levels.

II. Method of Collection

The surveys are sent to the respondents by U.S. mail; the surveys are also available from the BEA Web site. Respondents return the surveys one of four ways: U.S. mail, electronically using BEA's electronic collection system (eFile), fax, or email.

III. Data

OMB Control Number: 0608-0002.

Form Number: BE-40.

Type of Review: Regular submission.

Affected Public: Not-for-profit institutions.

Estimated Number of Responses: 100 each quarter for quarterly respondents and 277 for annual respondents; 677 total responses annually.

Estimated Time per Response: 1 hour, 30 minutes.

Estimated Total Annual Burden Hours: 1,015.5.

Estimated Total Annual Cost to Public: $0.

Respondent's Obligation: Voluntary.

Legal Authority: Bretton Woods Agreement Act, Section 8, and E.O. 10033, as amended.

IV. Request for Comments

Comments are invited on: (a) Whether the proposed collection of information is necessary for the proper performance of the functions of the Agency, including whether the information will have practical utility; (b) the accuracy of the Agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 19, 2013.
Glenna Mickelson,
Management Analyst, Office of Chief Information Officer.

[FR Doc. 2013-15054 Filed 6-24-13; 8:45 am]

BILLING CODE 3510-06-P